DEPARTMENT OF THE INTERIOR

Bureau of Land Management

[CO-935-1430-ET; COC-25845]

Proposed Extension of Public Land Order No. 5811; Opportunity for Public Meeting; Colorado

February 2, 2000.

AGENCY: Bureau of Land Management, Interior.

ACTION: Notice.

SUMMARY: The Bureau of Reclamation, Upper Colorado Region, proposes to extend Public Land Order No. 5811 for a 20-year period. This order withdrew National Forest System lands from location and entry under the mining laws to protect the McPhee Dam and Reservoir, Dolores Project, in Colorado. The lands have been and remain open to Bureau of Reclamation and Forest Service management and to mineral leasing. This notice also gives an opportunity to comment on the proposed action and to request a public meeting.

DATES: Comments and requests for a public meeting must be received by May 17, 2000.

ADDRESSES: Comments and meeting requests should be sent to the Colorado State Director, 2850 Youngfield Street, Lakewood, Colorado 80215-7093.

FOR FURTHER INFORMATION CONTACT: Doris E. Chelius at 303-239-3706.

SUPPLEMENTARY INFORMATION: On January 31, 2000, the Bureau of Reclamation, Upper Colorado Region, requested that Public Land Order No. 5811 be extended for a 20-year period. This withdrawal was made to protect improvements at the McPhee Dam, to provide protection for improvements, provide wildlife mitigation for lands inundated by the Dam, and for recreation purposes. Public Land Order 5811 will expire on January 21, 2001.

The withdrawal comprises approximately 1,262.62 acres in the San Juan National Forest located in T. 38 S., R.s. 15 and 16 W. The lands are described in Public Land Order 5811 and are located in Summit County. A complete description of the lands can be provided by the Colorado State Office at the address shown above.

For a period of 90 days from the date of publication of this notice, all persons who wish to submit comments, suggestions, or objections in connection with the proposed extension may present their views in writing to the Colorado State Director of the Bureau of Land Management.

Notice is hereby given that an opportunity for a public meeting is afforded in connection with this proposed extension. All interested persons who desire a public meeting for the purpose of being heard on the proposed extension should submit a written request to the Colorado State Director within 90 days from the date of publication of this notice. If the authorized officer determines that a public meeting will be held, a notice of the time and place will be published in the Federal Register at least 30 days prior to the scheduled date of the meeting.

This extension will be processed in accordance with regulations set forth in 43 CFR 2310.4.

Jenny L. Saunders,
Realty Officer.

[FR Doc. 00-3844 Filed 2-16-00; 8:45 am]

BILLING CODE 4310-JB-P